DEPARTMENT OF COMMERCE

National Oceanic and Atmospheric Administration

RIN 0648-XY19

Pacific Fishery Management Council; Public Meeting

AGENCY: National Marine Fisheries Service (NMFS), National Oceanic and Atmospheric Administration (NOAA), Commerce.

ACTION: Notice of public meeting.

SUMMARY: The Pacific Fishery Management Council's (Pacific Council) Coastal Pelagic Species Management Team (CPSMT) and Coastal Pelagic Species Advisory Subpanel (CPSAS) will hold a joint meeting by telephone conference that is open to the public.

DATES: The telephone conference will be held Thursday, September 2, from 10 a.m. to 11:30 a.m. or when business for the day is completed.

ADDRESSES: A public listening station will be available at the following location:

Pacific Fishery Management Council, Small Conference Room, 7700 NE Ambassador Place, Suite 101, Portland, OR 97220-1384, 503-820-2280.

Council address: Pacific Fishery Management Council, 7700 NE Ambassador Place, Suite 101, Portland, Oregon 97220-1384.

FOR FURTHER INFORMATION CONTACT: Kerry Griffin, Staff Officer; telephone: 503-820-2280.

SUPPLEMENTARY INFORMATION: The primary purpose of the work session is to review and discuss two draft terms of reference (TOR) for new coastal pelagic species (CPS) survey methodologies and for the upcoming Stock Assessment Review process. The CPSAS and CPSMT are not scheduled to meet during the September Council meeting, and may therefore develop written statements on these documents to the Pacific Fishery Management Council for consideration at its September meeting.

Although non-emergency issues not contained in the meeting agenda may come before the CPSMT and CPSAS for discussion, those issues may not be the subject of formal action during this meeting. CPSMT and CPSAS action will be restricted to those issues specifically listed in this notice and any issues arising after publication of this notice that require emergency action under Section 305(c) of the Magnuson-Stevens Fishery Conservation and Management Act, provided the public has been notified of the CPSMT's intent to take final action to address the emergency.

Special Accommodations

This meeting is physically accessible to people with disabilities. Requests for sign language interpretation or other auxiliary aids should be directed to Ms. Carolyn Porter at 503-820-2280 at least five days prior to the meeting date.

Dated: August 11, 2010
Tracey L. Thompson,
Acting Director, Office of Sustainable Fisheries, National Marine Fisheries Service.

[FR Doc. 2010-20146 Filed 8-13-10; 8:45 am]

BILLING CODE 3510-22-S